DEPARTMENT OF LABOR

Employment and Training Administration

[TA-W-50,602]

Porcelain Products Company, Macomb, IL; Notice of Termination of Investigation

Pursuant to section 221 of the Trade Act of 1974, as amended, an investigation was initiated on January 17, 2003 in response to a worker petition filed by the United Steel Workers of America, Local 86G on behalf of workers of Porcelain Products Company, Macomb, Illinois.

The petitioning group of workers is already covered by an earlier petition filed on January 7, 2003 (TA-W-50,515) that is the subject of an ongoing investigation for which a determination has not yet been issued. Further investigation in this case would serve no purpose, and the investigation has been terminated.

Signed at Washington, DC, this 29th day of January, 2003.
Linda G. Poole,
Certifying Officer, Division of Trade Adjustment Assistance.

[FR Doc. 03-4275 Filed 2-21-03; 8:45 am]

BILLING CODE 4510-30-P